DEPARTMENT OF HEALTH AND HUMAN SERVICES

Office of the Secretary

Solicitation of the Nomination of Candidates To Serve as Members of the National Vaccine Advisory Committee

AGENCY: Office of the Secretary HHS.

ACTION: Notice.

SUMMARY: The National Vaccine Program Office (NVPO), a program office within the Office of Public Health and Science, Department of Health and Human Services (DHHS), is soliciting nominations of qualified candidates to be considered for appointment as members to the National Vaccine Advisory Committee (NVAC). The activities of this Committee are governed by the stipulations of the Federal Advisory Committee Act (FACA).

DATES: All nominations must be received and/or postmarked no later than December 18, 2003.

ADDRESSES: All nominations should be sent to: Bruce G. Gellin, M.D., M.P.H., Director, National Vaccine Program Office, Office of Public Health and Science, Department of Health and Human Services, 200 Independence Avenue, SW., Room 725H, Washington, DC 20201.

FOR FURTHER INFORMATION, CONTACT: Ms. Carolin Commodore, Staff Assistant, National Vaccine Program Office, Department of Health and Human Services, 200 Independence Avenue SW., Room 725H, Washington, DC 20201; (202) 690-1253.

SUPPLEMENTARY INFORMATION:

Committee Function: Consistent with the National Vaccine Plan, the Committee advises and makes recommendations to the Assistant Secretary for Health in his/her capacity as the Director of the National Vaccine Program (NVP) on matters related to the Program's responsibilities. Specifically, the Committee studies and recommends ways to encourage the availability of an adequate supply of safe and effective vaccination products in the United States; recommends research priorities and other measures to enhance the safety and efficacy of vaccines. The Committee also advises the Assistant Secretary for Health in the implementation of sections 2102, 2103, and 2104 of the PHS Act; and identifies annually the most important areas of government and non-government cooperation that should be considered in implementing sections 2102, 2103, and 2104 of the PHS Act.

Qualifications and Information Required: Nominations are being sought for individuals who are engaged in vaccine research or the manufacture of vaccines, as well as individuals who are physicians, members of parent organizations concerned with immunizations, representatives of State or local health agencies or public health organizations. Individuals selected for appointment to the Committee will serve as voting members. Individuals selected for appointment to the Committee can be invited to serve terms with periods of up to four years.

Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address, and daytime telephone number, and the home and/or work address, telephone number, and email address of the individual being nominated; and (3) a current copy of the nominee's curriculum vitae. Applications cannot be submitted by facsimile. The names of Federal employees should not be nominated for consideration of appointment to this Committee.

The Department makes every effort to ensure that the membership of DHHS Federal advisory committees is fairly balanced in terms of points of view represented and the committee's function. Every effort is made to ensure that a broad representation of geographic areas, females, ethnic and minority groups, and the disabled are given consideration for membership on DHHS Federal advisory committees. Appointment to this Committee shall be made without discrimination on the basis of age, race, ethnicity, gender, sexual orientation, disability, and cultural, religious, or socioeconomic status.

Dated: November 19, 2003.
Bruce G. Gellin,
Director, National Vaccine Program Office and Executive Secretary, National Vaccine Advisory Committee.

[FR Doc. 03-29582 Filed 11-25-03; 8:45 am]

BILLING CODE 4150-28-P